DEPARTMENT OF AGRICULTURE

Forest Service

Extension of Comment Period; Application for Transportation and Utility Systems and Facilities for the Village at Wolf Creek Draft Environmental Impact Statement

AGENCY: Forest Service, Rio Grande National Forest.

ACTION: Extension of comment period.

SUMMARY: The United States Department of Agriculture (USDA) Forest Service (USFS), Rio Grande National Forest (RGNF) announces an additional extension of the comment period for the Application for Transportation and Utility Systems and Facilities for the Village at Wolf Creek Draft Environmental Impact Statement (EIS). The comment period ends January 5, 2005.

FOR FURTHER INFORMATION CONTACT: Mr. Robert Dalrymple, Forest Planner, USDA-USFS, Rio Grande National Forest, (719) 852-5941.

Dated: December 6, 2004.
Peter L. Clark,
Forest Supervisor.

[FR Doc. 04-27342 Filed 12-13-04; 8:45 am]

BILLING CODE 3410-11-M